DEPARTMENT OF HEALTH AND HUMAN SERVICES

Substance Abuse and Mental Health Services Administration

Request for Feedback—Consumer and Family Members Involvement in the Development of Managed Mental Health and Substance Abuse Programs

AGENCY: Substance Abuse and Mental Health Services Administration (SAMHSA), HHS.

ACTION: Request for feedback—consumer and family members involvement in the development of managed mental health and substance abuse programs.

The Substance Abuse and Mental Health Services Administration (SAMHSA) is charged by statute (42 U.S.C. 290aa) to encourage public and private entities that provide health insurance to provide benefits for mental health and substance abuse services. The tremendous growth of managed care over the last ten years has already dramatically changed the ways that public sector mental health and substance abuse services are organized and funded. The numbers of persons enrolled in managed care programs under Medicaid has increased from 10% in 1991 to 54% in 1998, with escalating numbers of persons with disabilities included under the programs. The number of States with managed care programs in public mental health and substance abuse programs has tripled in three years, from 14 States in 1996 to 42 States in 1999. Of the 42 States, 23 States—more than half—operate multiple managed behavioral healthcare programs.

SAMHSA has engaged in a number of projects to improve the genuine participation of consumers and family members in the design, procurement, implementation and evaluation of managed care programs in the public system. Under SAMHSA's Office of Managed Care, a group of consumers, family members and advocacy groups developed the Partners in Planning Guide to educate consumers and family members on becoming active in designing managed care systems in their State. A related project supported training on the Guide at national and grassroots venues to advocates as well as persons with mental illnesses and/or chemical dependencies.

Yet the impact of these other efforts to promote greater inclusion of consumers and family members in system design remains largely unmeasured. SAMHSA is now interested in receiving consumers/survivor, persons in recovery from substance abuse disorders and family members views and/or perceptions as it relates to their involvement in the development of mental health and substance abuse programs for managed care organizations in different States.

SAMHSA would appreciate feedback in the following areas on involvement by consumer and family members of mental health or substance abuse services:

• Designing and procuring systems of care in public mental health and substance abuse.

• Evaluating and monitoring public managed care systems that involve mental health and substance abuse services.

• Participating on mental health or substance abuse governing or advisory boards.

• Receiving compensation for representing consumer or family members, such as travel expenses or honorarium.

• How involvement has improved or worsened over the past five years.

• Overall comments about consumer/family members participation in managed care issues.

• Training, publications, web sites, coalitions, legislation, and media/public education that have been helpful.

The resulting information will be shared with SAMHSA leadership and constituents for identifying what works and best practices, but to also guide SAMHSA activities to further promote involvement of consumer and family members in managed care.

Send comments to Stephanie Wright, Program Analyst, Office of Managed Care, SAMHSA, Room 10-105, Parklawn Building, 5600 Fishers Lane, Rockville, MD 20857, via email at swright@samhsa.gov, or fax at 301-443-8711. Comments would be most helpful if they are received by May 9, 2001. Please include your name, title, affiliation and phone number for clarification, if necessary.

Dated: April 3, 2001.
Richard Kopanda,
Executive Officer, Substance Abuse and Mental Health Services Administration.

[FR Doc. 01-8617 Filed 4-6-01; 8:45 am]

BILLING CODE 4162-20-P